DEPARTMENT OF JUSTICE

Antitrust Division

Notice Pursuant to the National Cooperative Research and Production Act of 1993—Telemanagement Forum

Notice is hereby given that, on April 23, 2014, pursuant to Section 6(a) of the National Cooperative Research and Production Act of 1993, 15 U.S.C. 4301 et seq. (“the Act”), TeleManagement Forum (“the Forum”) has filed written notifications simultaneously with the Attorney General and the Federal Trade Commission disclosing changes in its membership. The notifications were filed for the purpose of extending the Act's provisions limiting the recovery of antitrust plaintiffs to actual damages under specified circumstances. Specifically, New South Wales Government Telecommunications Authority, Sydney, AUSTRALIA; IAB bvba—ICT Architecture, Leuven, BELGIUM; Botswana Fibre Networks (Pty) Ltd, Gaborone CBD, BOTSWANA; Cleartech, Barueri, BRAZIL; WebRadar, Rio de Janeiro, BRAZIL; BC Hydro, Vancouver, CANADA; Global Telecom Holding SAE, Cairo, EGYPT; QualiSystems, Ganey-Tikva, ISRAEL; Selex ES, Rome, ITALY; Almadar Aljadid, Tripoli, LIBYA; Ciminko Luxembourg, Ahn, LUXEMBOURG; Post Group, Luxembourg, LUXEMBOURG; Mozambique Cellular SARL (mcel), Maputo, MOZAMBIQUE; Telecomunication of Mozambique, Maputo, MOZAMBIQUE; Genesys Telecommunications Laboratories B.V., Naarden, NETHERLANDS; ePLDT Inc., Makati City, PHILIPPINES; CBOSS, Moscow, RUSSIA; Cornastone Telecommunications (Pty) Ltd, Cape Town, SOUTH AFRICA; Enable-U, Johannnesburg, SOUTH AFRICA; Indian Atlantic Telecoms, Johannesburg, SOUTH AFRICA; Indra Sistemas S.A., Madrid, SPAIN; BolgiaTen Ltd, Liverpool, ENGLAND; Driva Solutions, LLC, Bellevue, WA; Big Data Works, Plano, TX; Svarog Technology Group Inc., Half Moon Bay, CA; Citizen Telecom Services Company LLC. d/b/a Frontier Communications, Rochester, NY; Spirent Communications, Eatontown, NJ; Mendix Inc, Boston, MA; AetherPal, South Plainfield, NJ; Vietnam Posts and Telecommunications Group (VNPT), Hanoi, VIETNAM, have been added as parties to this venture.

The following members have changed their names: Nokia Siemens Networks to Nokia Solutions and Networks, Munich, GERMANY; TMNG Global to Cartesian, McLean, VA; Aliant Inc. to Bell Aliant, Hallifax, CANADA; Protiviti Member Firm Kuwait to Protiviti Member Firm Qatar LLC, Kuwait, KUWAIT; tarantula.NET to Tarantula, Slough, UNITED KINGDOM; Detica Ltd to BAE Systems Applied Intelligence, London, UNITED KINGDOM; DGiT Consultants Pty Ltd to DGiT, Prahran, AUSTRALIA; and SYMBIOSS to ARTIN Solutions, Bratislava, SLOVAK REPUBLIC.

The following members have withdrawn as parties to this venture: IPLAN Networks, Buenos Aires, ARGENTINA; Siemens Convergence Creators GmbH, Vienna, AUSTRIA; AsGa Sistemas, São Paulo, BRAZIL; Projeca Oy, Helsinki, FINLAND; ASTELLIA, Vern Sur Seiche, FRANCE; e.discom Telekommunikation GmbH, Potsdam, GERMANY; Objective Technologies SA, Athens, GREECE; Cognity Consulting, Athens, GREECE; DANU Technologies Ireland Ltd, Dublin, IRELAND; The Now Factory, Dublin, IRELAND; GICM Associates, Inc, Almaty, KAZAKHSTAN; Korea Telecom, Seongnam City, KOREA; DUXDILIGENS, S.A. DE C.V., Mexico City, MEXICO; Multimedios Redes, Monterrey, MEXICO; Two Degrees Mobile Ltd, Auckland, NEW ZEALAND; 3Consulting, Lagos, NIGERIA; Paltel Group, Nablus, PALESTINIAN TERRITORY; Yota Group, St. Petersburg, RUSSIA; Fastwire, Singapore, SINGAPORE; Luminet Group South Africa, Centurion, SOUTH AFRICA; MobileTV(Pty)Ltd, Gauteng, SOUTH AFRICA; CellC, Johannesburg, SOUTH AFRICA; hybris AG, Rotkreuz, SWITZERLAND; JSC UKRTELECOM, Kyiv, UKRAINE; S.S.C. FZE, Dubai, UNITED ARAB EMIRATES; Tribold, London, UNITED KINGDOM; Convergys, Cambridge, UNITED KINGDOM; Sytel Reply Ltd UK, London, UNITED KINGDOM; Enstratius, Edinburgh, UNITED KINGDOM; Kitka Ltd, London, UNITED KINGDOM; Agilis International, Inc., Rockville, MD; Talksum, Inc., San Francisco, CA; Virtual Instruments, San Jose, CA; ThreatConnect (Division of Cyber Squared), Arlington, VA; Dassault Systemes Enovia Corp, Lowell, MA; Versant Corporation, Fremont, CA; Latro Services, Chantilly, VA; Hitachi Data Systems, Santa Clara, CA; Nominum, Redwood, CA; SundaySky, New York, NY; DAX Technologies, Matawan, NJ; Dayblink Consulting, LLC., Vienna, VA; CANTV, Edificio Cortijos, VENEZUELA; and RPG Grupo Consultores C.A., Caracas, VENEZUELA.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on January 8, 2014. A notice was published in the Federal Register pursuant to Section 6(b) of the Act on February 20, 2014 (79 FR 9766).

Patricia A. Brink,
Director of Civil Enforcement, Antitrust Division.

[FR Doc. 2014-11338 Filed 5-15-14; 8:45 am]

BILLING CODE P